MARINE MAMMAL COMMISSION

Sunshine Act Notice

TIME AND DATE: The Marine Mammal Commission will meet in open session on Friday, 12 April 2013, in Silver Spring, Maryland, from 9:00 a.m. to 5:00 p.m.

PLACE: The meeting on will be held in the National Oceanic and Atmospheric Administration's Science Center, 1301 East-West Highway, Silver Spring, Maryland 20910.

STATUS: The Commission expects that all portions of this meeting will be open to the public. It will allow public participation as time permits and as determined to be desirable by the Chairman. Should it be determined that it is appropriate to close a portion of the meeting to the public, any such closure will be carried out in accordance with applicable regulations (50 CFR 560.5 and 560.6).

Seating for members of the public at this meeting may be limited. The Commission therefore asks that those intending to attend advise it in advance by sending an email to the Commission at mmc@mmc.gov or by calling (301) 504-0087. Members of the public will need to present valid, government-issued photo identification to enter the building where the meeting will be held.

MATTERS TO BE CONSIDERED: The Commission plans to meet with management and scientific officials in the National Marine Fisheries Service headquarters office to identify and discuss the agency's most pressing marine mammal research and management needs. The Commission already has met with staff in each of the Service's six regions to discuss these matters. The Commission intends to use the information from these meetings to develop a set of national priorities for guiding federal conservation efforts for marine mammals. Members of the public have been invited to attend all of the regional meetings, as well as the meeting with headquarter's staff and to provide comments concerning priority issues. Those unable to attend any of the meetings may submit comments in writing. Written comments should be sent to Timothy J. Ragen, Executive Director, Marine Mammal Commission, 4340 East-West Highway, Room 700, Bethesda, Maryland 20814.

CONTACT PERSON FOR MORE INFORMATION: Timothy J. Ragen, Executive Director, Marine Mammal Commission, 4340 East-West Highway, Room 700, Bethesda, MD 20814; (301) 504-0087; email: tragen@mmc.gov.

Dated: April 1, 2013.
Michael L. Gosliner,
General Counsel.

[FR Doc. 2013-07861 Filed 4-1-13; 4:15 pm]

BILLING CODE 6820-31-P